DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before December 15, 2009.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: October 9, 2009.
Angela C. Arrington,
Director, Information Collection Clearance Division, Regulatory Information Management Services, Office of Management.

Office of Special Education and Rehabilitative Services

Type of Review: New.

Title: Evaluation of the Helen Keller National Center for Deaf-Blind Youths and Adults.

Frequency: One time.

Affected Public: Businesses or other for-profit; Individuals or household; Not-for-profit institutions; State, Local, or Tribal Gov't, SEAs or LEAs.

Reporting and Recordkeeping Hour Burden:

Responses: 201.

Burden Hours: 278.

Abstract: The Helen Keller National Center for Deaf-Blind Youths and Adults (HKNC) provides services designed to equip clients to live independently in their communities and/or to enhance their ability to secure meaningful employment. The HKNC evaluation will provide RSA with independent and objective information by which to draw conclusions about the effectiveness, including cost effectiveness, of the Center. The evaluation will identify characteristics of the populations served by HKNC and the extent to which HKNC effectively serves clients with different needs. The evaluation will also examine the relationship between HKNC and vocational rehabilitation (VR) agencies and how well HKNC meets the needs of the agencies. Finally, this evaluation will include recommendations to improve HKNC programs and service delivery, including measures that could be used to assess ongoing performance of the Center, its regional staff and functions, and its national training program.

The evaluation scope of work is identified in the following objectives:

• Provide RSA with reliable and valid information on program effectiveness, including cost effectiveness.

• Identify both the characteristics of the populations served by HKNC and the strengths and weaknesses of the program that have an impact on its effectiveness in serving these populations.

• Examine the relationship between HKNC and VR agencies and the effectiveness of direct services, technical assistance, and training activities provided by the Center's headquarters and regional programs in meeting the needs of VR agencies.

• Make recommendations for program adjustments or improvements based on study findings, including measures that could be implemented to assess ongoing performance.

Requests for copies of the proposed information collection request may be accessed from http://edicsweb.ed.gov, by selecting the “Browse Pending Collections” link and by clicking on link number 4157. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-24880 Filed 10-15-09; 8:45 am]

BILLING CODE 4000-01-P